DEPARTMENT OF ENERGY

Federal Energy Regulatory Commission

Combined Notice of Filings #1

June 26, 2006.

Take notice that the Commission received the following electric rate filings.

Docket Numbers: ER91-569-033.

Applicants: Entergy Services Inc.

Description: Entergy Services, Inc on behalf of Entergy Arkansas, Inc et al. submits a non-material change in status pursuant to requirements of Order 652.

Filed Date: 6/20/2006.

Accession Number: 20060623-0049.

Comment Date: 5 p.m. Eastern Time on Tuesday, July 11, 2006.

Docket Numbers: ER96-496-015; ER99-14-012; ER99-4463-006.

Applicants: Northeast Utilities Service Company.

Description: Northeast Utilities submits certain notifications to the Commission to reflect the acquisition by Hess Corp of the competitive retail businesses operated by Northeast Utilities Enterprise, Inc's subsidiaries.

Filed Date: 6/20/2006.

Accession Number: 20060623-0039.

Comment Date: 5 p.m. Eastern Time on Tuesday, July 11, 2006.

Docket Numbers: ER97-2153-015; ER02-556-007; ER00-2181-003.

Applicants: Amerada Hess Corporation; Select Energy New York, Inc.; Hess Energy, Inc.

Description: Select Energy New York, Inc et al. submits a notice of non-material change in status.

Filed Date: 6/20/2006.

Accession Number: 20060623-0045.

Comment Date: 5 p.m. Eastern Time on Tuesday, July 11, 2006.

Docket Numbers: ER05-1089-003.

Applicants: Wisconsin Public Service Corporation.

Description: Wisconsin Public Service Corp submits a settlement payment report in compliance with the Commission's 6/2/06 order.

Filed Date: 6/19/2006.

Accession Number: 20060619-5023.

Comment Date: 5 p.m. Eastern Time on Monday, July 10, 2006.

Docket Numbers: ER05-1508-002.

Applicants: Midwest Independent Transmission System Operator, Inc.

Description: Midwest Independent Transmission System Operator, Inc. submits its Large Generator Interconnection Agreement with Power Partners Midwest, LLC and Interstate Power and Light Company.

Filed Date: 6/21/2006.

Accession Number: 20060623-0056.

Comment Date: 5 p.m. Eastern Time on Wednesday, July 12, 2006.

Docket Numbers: ER06-255-003.

Applicants: Midwest Independent Transmission System Operator, Inc.

Description: Midwest Independent Transmission System Operator, Inc. submits a Large Generator Interconnection Agreement with FirstEnergy Generation Corp and American Transmission System, Inc.

Filed Date: 6/21/2006.

Accession Number: 20060623-0057.

Comment Date: 5 p.m. Eastern Time on Wednesday, July 12, 2006.

Docket Numbers: ER06-714-001.

Applicants: Midwest Independent Transmission System.

Description: Midwest Independent Transmission System Operator, Inc submits its Large Generator Interconnection Agreement with FirstEnergy Nuclear Operating Company and American Transmission System, Inc.

Filed Date: 6/21/2006.

Accession Number: 20060623-0040.

Comment Date: 5 p.m. Eastern Time on Wednesday, July 12, 2006.

Docket Numbers: ER06-836-001.

Applicants: Pacific Gas & Electric Company.

Description: Pacific Gas and Electric Co submits a supplement to its 4/4/06 filing of Supplemental Balancing Account Revisions.

Filed Date: 6/22/2006.

Accession Number: 20060623-0085.

Comment Date: 5 p.m. Eastern Time on Thursday, July 13, 2006.

Docket Numbers: ER06-1046-002.

Applicants: Western Kentucky Energy Corp.; LG&E Energy Marketing Inc.; Louisville Gas & Electric Company; Kentucky Utilities Company.

Description: LG&E Energy Marketing, Inc et al. submit updated information to inform FERC of certain recent developments in a proceeding pending before the Kentucky Public Service Commission etc.

Filed Date: 6/21/2006.

Accession Number: 20060623-0051.

Comment Date: 5 p.m. Eastern Time on Wednesday, July 12, 2006.

Docket Numbers: ER06-1055-001.

Applicants: Newmont Nevada Energy Investment, LLC.

Description: Newmont Nevada Energy Investment LLC submits revised tariff sheets to its Electric Tariff, Original Volume 1.

Filed Date: 6/21/2006.

Accession Number: 20060623-0047.

Comment Date: 5 p.m. Eastern Time on Wednesday, July 12, 2006.

Docket Numbers: ER06-1098-001.

Applicants: JJR Power LLC.

Description: JJR Power LLC submits an amended Petition of Acceptance of Initial Tariff, Waiver and Blanket Authority.

Filed Date: 6/21/2006.

Accession Number: 20060623-0041.

Comment Date: 5 p.m. Eastern Time on Wednesday, July 12, 2006.

Docket Numbers: ER06-1163-000.

Applicants: American Electric Power Service Corporation.

Description: The American Electric Power Service Corp, on behalf of Ohio Power Co et al submits an interconnection agreement with Duke Energy.

Filed Date: 6/21/2006.

Accession Number: 20060623-0042.

Comment Date: 5 p.m. Eastern Time on Wednesday, July 12, 2006.

Docket Numbers: ER06-1164-000.

Applicants: New York State Electric & Gas Corporation.

Description: New York State Electric & Gas Corp submits a supplement to Rate Schedule 200—Facilities Agreement with New York Power Authority.

Filed Date: 6/19/2006.

Accession Number: 20060623-0048.

Comment Date: 5 p.m. Eastern Time on Monday, July 10, 2006.

Docket Numbers: ER06-1165-000.

Applicants: Southern Company Services, Inc.

Description: Southern Company Services, Inc on behalf Alabama Power Co et al submits Revision 3 to the Agreement for Network Integration Transmission Service for Tennessee Valley Authority.

Filed Date: 6/22/2006.

Accession Number: 20060623-0052.

Comment Date: 5 p.m. Eastern Time on Thursday, July 13, 2006.

Docket Numbers: ER06-1166-000.

Applicants: Liberty Power Nevada LLC.

Description: Liberty Power Nevada, LLC submits its petition for acceptance of initial rate schedule (FERC Electric Rate Schedule No. 1), waivers and blanket authority.

Filed Date: 6/22/2006.

Accession Number: 20060626-0163.

Comment Date: 5 p.m. Eastern Time on Monday, July 3, 2006.

Docket Numbers: ER06-1167-000.

Applicants: Liberty Power New Hampshire LLC.

Description: Liberty Power New Hampshire, LLC submits a petition for acceptance of its initial rate schedule (FERC Electric Rate Schedule No. 1), waivers and blanket authority.

Filed Date: 6/22/2006.

Accession Number: 20060626-0161.

Comment Date: 5 p.m. Eastern Time on Monday, July 3, 2006.

Docket Numbers: ER06-1168-000.

Applicants: Liberty Power Pennsylvania LLC.

Description: Liberty Power Pennsylvania, LLC submits a petition of its initial rate schedule (FERC Electric Rate Schedule 1), waivers and blanket authority.

Filed Date: 6/22/2006.

Accession Number: 20060626-0162.

Comment Date: 5 p.m. Eastern Time on Monday, July 3, 2006.

Docket Numbers: ER06-1169-000.

Applicants: Moses Lake Generating LLC.

Description: Moses Lake Generating, LLC submits a notice of cancellation of its market-based rate tariff, FERC Electric Tariff, Original Volume No. 1.

Filed Date: 6/23/2006.

Accession Number: 20060626-0149.

Comment Date: 5 p.m. Eastern Time on Friday, July 14, 2006.

Docket Numbers: ER06-1170-000.

Applicants: Liberty Power Ohio LLC.

Description: Liberty Power Ohio, LLC submits a petition for acceptance of its initial rate schedule (FERC Electric Rate Schedule 1) waivers and blanket authority.

Filed Date: 6/22/2006.

Accession Number: 20060626-0150.

Comment Date: 5 p.m. Eastern Time on Monday, July 3, 2006.

Docket Numbers: ER06-1171-000.

Applicants: Southern California Edison Company.

Description: Southern California Edison Co submits an Interconnection Facilities Study Agreement with the Nevada Hydro Co Inc.

Filed Date: 6/23/2006.

Accession Number: 20060626-0158.

Comment Date: 5 p.m. Eastern Time on Friday, July 14, 2006.

Docket Numbers: ER06-1172-000.

Applicants: Liberty Power California LLP.

Description: Liberty Power California, LLP submits a petition for acceptance of its initial rate schedule (FERC Electric Rate Schedule 1), waivers and blanket authority.

Filed Date: 6/23/2006.

Accession Number: 20060626-0160.

Comment Date: 5 p.m. Eastern Time on Wednesday, July 5, 2006.

Docket Numbers: ER06-1173-000.

Applicants: Liberty Power Connecticut LLP.

Description: Liberty Power Connecticut, LLP submits a petition for acceptance of its initial rate schedule (FERC Electric Tariff 1), waivers and blanket authority.

Filed Date: 6/23/2006.

Accession Number: 20060626-0159.

Comment Date: 5 p.m. Eastern Time on Wednesday, July 5, 2006.

Docket Numbers: ER06-1174-000.

Applicants: New York Independent System Operator, Inc.

Description: New York Independent System Operator, Inc submits revised tariff to reinstate inadvertently delete language needed to determine sanctions for failure to meet ICAP Bidding requirements.

Filed Date: 6/23/2006.

Accession Number: 20060626-0146.

Comment Date: 5 p.m. Eastern Time on Friday, July 14, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-10328 Filed 6-30-06; 8:45 am]

BILLING CODE 6717-01-P